DEPARTMENT OF LABOR

Employment and Training Administration

[TA-W-73,301]

Shieldalloy Metallurgical Corporation, a Subsidiary of AMG; Newfield, NJ; Notice of Negative Determination on Reconsideration

On October 7, 2010, the Department of Labor (Department) issued an Affirmative Determination Regarding Application for Reconsideration for the workers and former workers of Shieldalloy Metallurgical Corporation, a subsidiary of AMG, Newfield, New Jersey (subject firm). The Department's Notice was published in the Federal Register on October 25, 2010 (75 FR 65515).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition states that the workers' separations occurred between October 2009 and February 2010 and described the service supplied as “aluminum products (shipped/received) shipping, receiving, customer service.” The petition also states that “production, shipping/receiving, customer service, is being done at a facility in UK.” In an attachment to the petition, the petitioners stated that “(since 2006) the company has had to shift production * * * the (grinding) department suffered from cheaper imports * * * has shut down permanently . * * *”

The initial investigation resulted in a negative determination based on the finding that a shift of production by the subject firm to Canada in 2006 did not contribute importantly to workers' separations because, during the period of the investigation, the subject firm did not produce an article. Rather, the subject firm supplied storage services for other subsidiaries of AMG (the parent company) and those storage services were shifted to an affiliate domestic facility. Further, the subject firm did not, during the relevant period, increased imports of services like or directly competitive with the storage services supplied by the workers. In addition, the subject firm did not supply services to a firm that both employed a worker group that employed a worker group eligible to apply for Trade Adjustment Assistance (TAA) and used the services supplied by the subject firm in the production of an article or the supply of the service that was the basis for the TAA certification.

In the request for reconsideration, a former worker of the subject firm reiterated that the subject firm shifted operations to various facilities throughout the United States, as well as Canada, Brazil, England, and Mexico.

Information obtained during the reconsideration investigation confirmed that, during the relevant period, workers at the subject firm were engaged in activities related to the supply of storage and shipment services, which consist of receiving finished products from related companies and shipping these products to customers. Information obtained during the reconsideration investigation also confirmed that, during the relevant period, the workers' firm neither shifted to a foreign country the supply of services like or directly competitive with the services supplied by the subject workers, nor acquired from a foreign country services like or directly competitive with those supplied by the subject workers.

Conclusion

After reconsideration, I affirm the original notice of negative determination of eligibility to apply for worker adjustment assistance for workers and former workers of Shieldalloy Metallurgical Corporation, a subsidiary of AMG, Newfield, New Jersey.

Signed in Washington, DC, on this 16th day of February 2011.
Del Min Amy Chen,
Certifying Officer, Office of Trade Adjustment Assistance.

[FR Doc. 2011-5931 Filed 3-14-11; 8:45 am]

BILLING CODE 4510-FN-P